DEPARTMENT OF HEALTH AND HUMAN SERVICES

Office of the Secretary

[Document Identifier: HHS-OS-0990-New-30D]

Agency Information Collection Activities; Submission to OMB for Review and Approval; Public Comment Request

AGENCY: Office of the Secretary, HHS.

ACTION: Notice.

SUMMARY: In compliance with section 3507(a)(1)(D) of the Paperwork Reduction Act of 1995, the Office of the Secretary (OS), Department of Health and Human Services, has submitted an Information Collection Request (ICR), described below, to the Office of Management and Budget (OMB) for review and approval. The ICR is for a new collection. Comments submitted during the first public review of this ICR will be provided to OMB. OMB will accept further comments from the public on this ICR during the review and approval period.

DATES: Comments on the ICR must be received on or before September 22, 2016.

ADDRESSES: Submit your comments to OIRA_submission@omb.eop.gov or via facsimile to (202) 395-5806.

FOR FURTHER INFORMATION CONTACT: Information Collection Clearance staff, Information.CollectionClearance@hhs.gov or (202) 690-6162.

SUPPLEMENTARY INFORMATION: When submitting comments or requesting information, please include the Information Collection Request Title and document identifier HHS-OS-0990-New-30D for reference.

Information Collection Request Title: Evaluation of the Women's Health Leadership Institute Program.

Abstract: The U.S. Department of Health and Human Services (HHS) Office on Women's Health (OWH) is requesting approval for new data collection to assess the impact of the Women's Health Leadership Institute (WHLI) program. The WHLI trained community health workers (CHWs) to gain leadership skills and to use a public health systems approach to address chronic disease and health disparities in their communities. WHLI employed a train-the-trainers model (i.e., experienced personnel coach and mentor inexperienced instructors to develop skills and knowledge needed to deliver the course), where Master Trainers (MTs) learned to deliver the WHLI training curriculum to CHWs. At the end of the program, CHWs received guidance on developing Community Action Projects (CAPs) to implement systems-level changes in their communities.

The evaluation will consist of both a process evaluation that focuses on CHWs' satisfaction with the training and suggestions for improvement, and an outcome evaluation that assesses (1) intermediate outcomes including the sustainability of CHWs' leadership knowledge and competencies, and the application of these competencies in leadership activities and CAP development.; and (2) long-term outcomes including positive systemic and/or community level changes made around women's health issues. Data from the study will enable OWH to understand what components of the training were most successful and to identify aspects of the training in need of improvement. Results will also help OWH with planning and developing future training initiatives to promote effective programs for women and girls.

Total Estimated Annualized Burden—Hours
Form name | Number of respondents | Number of responses per respondent | Average burden per response (in hours) | Total burden hours
Online Survey—All CHWs | 422 | 1 | 25/60 | 176
Telephone Interviews—CHWs with completed CAPs or other leadership activities | 40 | 1 | 30/60 | 20
Telephone Interviews—Master Trainers | 18 | 1 | 30/60 | 9
Telephone Interviews—CHW Worksite Supervisors | 20 | 1 | 30/60 | 10
Telephone Interviews— Community Stakeholders | 20 | 1 | 30/60 | 10
Total | 520 |  |  | 225

Terry S. Clark,
Asst Information Collection Clearance Officer.

[FR Doc. 2016-20135 Filed 8-22-16; 8:45 am]

BILLING CODE 4150-33-P